DEPARTMENT OF EDUCATION

[CFDA No. 84.258]

Even Start Family Literacy Program Grants for Indian Tribes and Tribal Organizations

AGENCY: Department of Education.

ACTION: Notice inviting applications for new awards for fiscal year (FY) 2000.

Purpose of Program: The Even Start Family Literacy Program for Indian tribes and tribal organizations is designed to help break the cycle of poverty and illiteracy by improving the educational opportunities of low-income families by integrating early childhood education, adult literacy or adult basic education, and parenting education into a unified family literacy program for federally recognized Indian tribes and tribal organizations.

Eligible Applicants: Federally recognized Indian tribes and tribal organizations. (The term “Indian tribe” and “tribal organization” have the meanings given those terms in section 4 of the Indian Self-Determination and Education Assistance Act.)

Applications Available: May 12, 2000.

Deadline for Transmittal of Applications: June 30, 2000.

Available Funds: The Secretary estimates that there will be approximately $1,500,000 in FY 2000 funds for new grants.

Estimated Range of Awards: $100,000-$200,000.

Estimated Size of Average Award: $175,000.

Estimated Number of Awards: 8-10.

Note: The Department is not bound by any estimates in this notice.

Project Period: Up to 48 months.

Applicable Regulations: The Education Department General Administrative Regulations (EDGAR) in 34 CFR parts 75, 77, 80, 81, 82, 85, 97, 98, and 99.

SUPPLEMENTARY INFORMATION:

Description of Program

Under the authority of section 1202(a)(1)(C) of the Elementary and Secondary Education Act (ESEA), the Assistant Secretary of Elementary and Secondary Education (Assistant Secretary) awards grants to eligible applicants for projects that—

• Improve the educational opportunities of low-income families by integrating early childhood education, adult literacy or adult basic education, and parenting education into a unified family literacy program for federally recognized Indian tribe and tribal organization projects;

• Are implemented through cooperative activities that build on existing community resources to create a new range of services for federally recognized Indian tribe and tribal organization projects;

• Promote achievement of the National Education Goals one, three, five, and eight that address school readiness, student achievement, adult literacy, and parent involvement in the education of their children; and

• Assist children and adults to achieve to challenging State content standards and challenging State student performance standards.

Each project must use the grant funds to provide an intensive family-centered education program that involves parents and children, from birth through age seven, in a cooperative effort to help parents become full partners in the education of their children and to assist children in reaching their full potential as learners.

In accordance with section 1205 of the ESEA, each project must include ten specific program elements (listed in the application package). Those ten elements include in part the following activities: identifying, recruiting, and providing services to families that are the most in need of family literacy services, as indicated by a low level of adult literacy or English language proficiency of the eligible parent or parents, and other need-related indicators; providing (through collaboration with other entities when possible) high-quality, intensive instructional programs in adult basic or secondary education (or English language training), early childhood education, literacy-based parenting education training, and interactive literacy activities between parents and their children; and providing year-round services, including some instructional services in the home. For a specific description of all of the required program elements, applicants should refer to the application package.

Eligible Participants

Eligible participants are families with children and their parents who also meet the following conditions specified in section 1206(a) of the ESEA:

(1) The parent or parents must be eligible for participation in an adult education program under the Adult Education Act; or within the State's compulsory school attendance age range (in which case a local educational agency must provide (or ensure the availability of) the basic education component); and

(2) The child or children must be younger than eight years of age.

Federal and Local Funding

An Even Start Family Literacy project's funding is comprised of both a Federal portion of funds (Federal share) and a portion contributed by the eligible applicant (local project share). The local share of the project may be provided in cash or in kind and may be obtained from any source, including other Federal programs funded by the ESEA. The Federal share of the project may not exceed—

• 90 percent of the total cost of the project in the first year;

• 80 percent in the second year;

• 70 percent in the third year;

• 60 percent in the fourth year;

• 50 percent in the fifth through eight years; and

• 35 percent in any subsequent year.

The Federal share for any grantee receiving a grant for a second grant cycle may not exceed 50 percent, and for any cycle after that may not exceed 35 percent. Any grantee that wishes to reapply at the end of a project period (up to 48 months) must recompete for funding with new applicants.

Indirect Costs

Even Start Family Literacy Program funds may not be used for the indirect costs of a project. Recipients of an Even Start Indian tribe and tribal organization grant may request the Secretary to waive this requirement. To obtain a waiver, however, the recipient must demonstrate to the Secretary's satisfaction that the recipient otherwise would not be able to participate in the Even Start Family Literacy Program.

National Evaluation

The Department is conducting a national evaluation of Even Start Family Literacy projects. Grantees are required to participate in the Department's national evaluation and to conduct a separate independent local evaluation consistent with the grantee's responsibilities under 34 CFR 75.590. Specific information about budgeting for those evaluations are contained in the application package.

FOR FURTHER INFORMATION CONTACT: To obtain a copy of the application package or further information, contact Doris Sligh, Compensatory Education Programs, Office of Elementary and Secondary Education, U.S. Department of Education, 400 Maryland Avenue SW, Washington, DC 20202-6132; telephone (202) 260-0999; or email doris_sligh@ed.gov.

The application package also is available on the Department's Web site at: www.ed.gov/GrantApps/#84.258.

Individuals who use a telecommunications device for the deaf (TDD) may call the Federal Information Relay Service (FIRS) at 1-800-877-8339. Individuals with disabilities may obtain this document in an alternate format (e.g., Braille, large print, audiotape, or computer diskette) on request to the contact person listed in the preceding paragraph.

Individuals with disabilities may obtain a copy of the application package in an alternative format by contacting that person. However, the Department is not able to reproduce in an alternative format the standards forms included in the application package.

Electronic Access to This Document

Anyone may view this document, as well as all other Department of Education documents published in Federal Register, in text or Adobe Portable Document Format (PDF) on the Internet at either of the following sites:

http://ocfo.ed.gov/fedreg.htm

http://www.ed.gov/news.html

To use the PDF, you must have Adobe Acrobat Reader, which is available free at either of the previous sites. If you have questions about using the PDF, call the U.S. Government Printing Office (GPO) toll free at 1-888-293-6498, or in the Washington DC area at (202) 512-1530.

The official version of this document is the document published in the Federal Register. Free Internet access to the official education of the Federal Register and Code of Federal Regulations is available on GPO Access at: http://www.access.gpo.gov/nara/index.html.

Program Authority: 20 U.S.C. 6362(c).

Dated: May 9, 2000.
Michael Cohen,
Assistant Secretary for Elementary and Secondary Education.

[FR Doc. 00-12162 Filed 5-11-00; 8:45 am]

BILLING CODE 4000-01-M